DEPARTMENT OF TRANSPORTATION

Maritime Administration

[Docket Number MARAD-2013-0022]

Final Policy: Cruise Vessel Security and Safety Training Provider Certification

AGENCY: Maritime Administration, Department of Transportation.

ACTION: Final policy.

SUMMARY: This notice serves to inform interested parties and the public of the Maritime Administration's (MARAD) new policy on certification of cruise vessel security and safety training providers. As required by the Cruise Vessel Security and Safety Act of 2010, Public Law 111-207 (July 27, 2010) (codified at 46 U.S.C. sections 3507-08) (CVSSA), the U.S. Coast Guard (USCG), in consultation with the Federal Bureau of Investigation (FBI), and MARAD developed training standards and curricula (the “Model Course”) to allow for the certification of passenger vessel security personnel, crewmembers, and law enforcement officials on the appropriate methods for the prevention, detection, evidence preservation and reporting of criminal activities in the international maritime environment. In addition, the CVSSA provided the Maritime Administrator with the discretionary authority to certify organizations in the United States and abroad that offer the curriculum for training and certification. On May 23, 2013, the agency published a notice in the Federal Register seeking public comment on a draft policy under which such certification would be carried out (78 FR 30956). In response, the agency received four separate comments to which it provides its responses below. The agency is now announcing its voluntary certification program for training providers to assure the general public that passenger cruise vessel security and safety personnel have received training that is in strict compliance with the CVSSA mandated Model Course. MARAD certification will serve to assist the cruise industry in identifying and obtaining qualified training services.

DATES: This policy will become effective once the Office of Management and Budget approves a current information collection control number. (See also Paperwork Reduction Act section.)

ADDRESSES: The complete file for this policy is available for inspection with the Docket Clerk, Docket Management Facility, U.S. Department of Transportation, 1200 New Jersey Avenue SE., West Building, Room W12-140, Washington, DC 20590, between 9 a.m. and 5 p.m., Monday through Friday, except on Federal holidays. You may also view the comments submitted to the docket via the Federal eRulemaking Portal at http://www.regulations.gov by following search instructions using DOT Docket Number MARAD-2013-0022.

Organizations and individuals desiring to submit comments on the collection of information requirements should direct them to the Office of Management and Budget, Office of Information and Regulatory Affairs, Washington DC 20503, Attention: MARAD Desk Officer. Comments may also be sent via email to the Office of Management and Budget at the following address: oira_submissions@omb.eop.gov.

FOR FURTHER INFORMATION CONTACT: You may contact T. Mitchell Hudson, Jr., Office of Chief Counsel, Maritime Administration, at (202) 366-9373. You may send mail to Mr. Hudson at Maritime Administration, 1200 New Jersey Avenue SE., MAR 225, W24-220, Washington, DC 20590-0001. You may send electronic mail to Mitch.Hudson@dot.gov. If you have questions on viewing the Docket, call Cheryl Collins, Program Manager, Docket Operations, telephone: (800) 647-5527.

SUPPLEMENTARY INFORMATION: Following the enactment of the CVSSA, the USCG, MARAD, and the FBI, as directed under the Act, developed the Model Course. Published in July of 2011, the “Model Course CVSSA 11-01 Crime Prevention, Detection, Evidence Preservation and Reporting” set the standards for security personnel training. The CVSSA training requirements are applicable to passenger vessels that carry at least 250 passengers; have onboard sleeping facilities for each passenger; are on a voyage that embarks and disembarks passengers in the United States; and are not engaged on a coastwise voyage. Since July 27, 2011, passenger vessels have been required to certify to the USCG, before entering a United States port on a voyage or voyage segment on which a United States citizen is a passenger, that they have at least one crewmember on board who is properly trained on prevention, detection, evidence preservation, and reporting requirements of criminal activities in the international maritime environment.

MARAD's voluntary training provider certification program will help assure the general public that passenger vessel security and safety personnel have received proper training consistent with the Model Course and will assist the industry in obtaining quality training services. Training providers seeking to be certified by MARAD are required to submit training plans and supporting information for review. If the training provider's plans meet the Model Course criteria, the agency will offer its certification subject to the training provider entering into an agreement which, in addition to other terms, will subject the organization to program audits. The MARAD application procedure and program details are also available to the public on its Web site www.marad.dot.gov/cvssa.

Comments on the Proposed Policy

In response to the agency's Federal Register notice seeking public comment on its proposed CVSSA trainer certification policy, a total of four separate comment submissions were made by the following entities: the International Cruise Victims Association, Inc. (ICV); the Cruise Lines International Association (CLIA); the American Association for Justice (AAJ); and a private citizen. The agency responds below to all comments, which have been organized under four general topic areas—Statutory Authority, Program Administration, Public Information and Trainer/Applicant Requirements.

Statutory Authority

(1) Comments submitted by ICV questioned the efficacy of a voluntary certification program, rather than a mandatory program, in order to “provide a standardized training format for certification.”

For several reasons, MARAD chose a voluntary program implemented through policy rather than issuing a formal rulemaking to establish a mandatory requirement. First, because the CVSSA provides the Administrator with discretionary authority, the law allows for the implementation of a voluntary program. Second, based on the agency's successful experience implementing a voluntary program under the authority provided by Section 109 of the Maritime Transportation Security Act of 2002, the agency is confident that voluntary programs can be successful at achieving proper oversight and ensuring regulatory compliance. Third, MARAD anticipates the cruise lines will recognize the importance of certification of their program in order to ensure the best possible safety and security for its passengers. Lastly, in the event that this program is unable to establish the industry standard for security and safety training through voluntary compliance, the agency can implement a mandatory program through regulation, and do so with the experience to better understand the issues and challenges.

(2) Comments submitted by ICV question whether the Security Officer's impartiality is compromised by having no authority in a criminal investigation, arguing that security personnel should be agents of the government.

The provided training does not render ship security personnel agents of the government in securing a crime scene or preserving evidence. The training is designed to ensure that neither the crime scene nor evidence are disturbed or destroyed such that their value is lost or diminished to law enforcement. The course materials provide an appropriate level of guidance as to fundamental aspects of crime scene preservation.

A vessel security officer (VSO), as any employee of a private concern, only becomes an agent of the U.S. government when the security officer is directed by, tasked by or is otherwise acting at the behest of the U.S. Government. Generalized instruction to VSOs on crime scene preservation prior to and wholly removed from a particular incident, do not convert the VSOs into agents of government.

Program Administration

(1) ICV expressed concerns regarding the effectiveness, quality and integrity of distance learning or E-learning course instruction.

The agency does not agree that distance learning or E-learning is necessarily inferior to other methods of instruction. E-learning models are being used across industries and in schools and universities around the world. During the application review process, applications that identify E-learning as a method of training will be scrutinized for high quality content and use of best practices. In addition, the audit process can identify weaknesses in any particular E-learning course.

(2) Both ICV and CLIA commented on and questioned various aspects of the proposed audit process. ICV asked the agency to clarify when audits will be scheduled.

Audits must be conducted during the term of certification as per the following schedule: An initial audit must be conducted within 6 months of certification; a mid-period audit must be conducted between the second and third year anniversary of certification; and a recertification audit must be conducted within 6 months prior to expiration of the certificate. These audits must be carried out by a qualified independent auditor, as discussed below. It is the responsibility of the training provider to schedule and ensure completion of these audits. The training provider must advise MARAD of the dates of the upcoming audits. MARAD reserves the right to participate in the audit along with the independent auditor.

As clarification, the policy provides that the final audit will take place “no earlier than 6 months before expiration of the MARAD certification. Therefore, for example, if the training provider's certification expires on December 15, 2020, the training provider must schedule the final audit between June 16th and December 14th 2020.

(3) ICV and CLIA commented on the issue of auditor qualifications. ICV asked what is meant by the term “accredited” auditor.

The program policy has been revised to remove the term “accredited.” Auditors must be able to demonstrate that they are competent to carry out the task and that they have been assessed against a recognized standard. Auditors designated by Flag states, or by Classification Societies that are members of the International Association of Classification Societies (IACS), and ISO 9001 Quality Management certified auditors, will be considered qualified auditors.

(4) CLIA also asked how the agency would determine who is an “independent auditor?”

An independent auditor is any auditor that has not had an affiliation with the training provider (e.g., an employee, consultant, etc.) being audited for three years prior to the audit.

(5) CLIA asked MARAD to clarify whether audits will be performed by agency personnel and/or at the corporation's expense.

The costs of audits by qualified independent auditors will be borne by the certified training provider. The costs of MARAD's participation in those audits, when MARAD elects to participate, will be borne by MARAD.

(6) The ICV submitted comments suggesting that auditors should be authorized to question personnel having completed the training in order to ensure proficiency.

While MARAD's certification process pertains to the training provider and not to individual trainees, auditors may, as part of an audit, question trainees as one means of assessing the effectiveness of the training program.

(7) Commenters have asked what actions or issues would cause MARAD to suspend or revoke a training provider's certification.

MARAD may suspend or revoke certification if the agency determines that the training provider is unable to meet the course objectives; has submitted documentation that is found to be fraudulent or inaccurate; has failed to implement corrective actions satisfactorily or within an agreed time frame; or at the request of the training provider. MARAD may consult with the USCG and FBI on whether to suspend or revoke certification.

(8) CLIA inquired whether MARAD will offer retroactive certification to training providers whose curricula have been verified by a qualified independent auditor as consistent with the Model Course.

MARAD will retroactively certify training providers if (1) MARAD finds the training curriculum is consistent with the Model Course and the training provider executes the Agreement discussed below; and (2) an audit conducted by a qualified independent auditor prior to issuance of this final policy found that the curriculum was consistent with the Model Course, and that the training offered was effective. Training providers seeking retroactive certification must submit their application, including the audit results, within three months of the effective date of this policy. Certification will be retroactive to the date of the audit, and will be effective for five years from the date the certification is issued.

(9) CLIA asked whether applications and supporting information can be submitted either electronically or by paper filing.

Either format is acceptable. MARAD anticipates that most applications will be submitted electronically. MARAD will ensure that the agency's Web site provides all necessary contact information for both electronic and paper filings.

(10) CLIA expressed concern that 3 days to provide administrative records would not be enough time and instead recommends that 10 days would be a more practical time frame.

Training organizations seeking MARAD certification must be prepared to respond quickly if and when circumstances result in the agency's need to review additional information. If more time is needed, the training organization may request an extension and provide a proper justification of the need to the agency. However, to ensure that MARAD certification is current and meaningful to the public, training organizations must be prepared to respond within 3 business days. The use of electronic document exchanges should minimize any administrative burden.

(11) CLIA recommended that MARAD state a particular time frame of 30 days or less to process an application.

MARAD's goal is to process each initial and renewal application as expeditiously as possible. In the case of certification renewals, MARAD will (assuming timely receipt of a complete application for renewal), extend the expiration date on current CVSSA certificates on a case-by-case basis.

(12) CLIA also asserts that 90 days in advance of expiration is not a reasonable time frame in which to submit the certification renewal application.

The expiration date will be known from the date of certification; the 90 day requirement should not be difficult to meet. Later submissions will be accepted, however, processing time could result in a delay in renewal.

(13) CLIA asserts that in-classroom or real-time monitoring of the course is not the certifying organization's role. CLIA also took issue with the required training provider agreement wherein it requires applications to include photographs, diagrams, or plans of the training site.

MARAD regards in-classroom monitoring as a highly effective means by which the agency can ensure that training organizations adhere to the CVSSA Model course. Plans and photographs can assist the agency's understanding of how the trainer will successfully impart information; however, we agree that this may not be necessary in all instances. Therefore, MARAD has modified the agreement to provide that such plans and photographs will be provided upon request.

(14) Comments submitted by CLIA seek clarification as to who has the responsibility to report non-conformities to MARAD.

The training provider has ultimate responsibility to ensure that MARAD receives audit results delineating any non-conformities, and a corrective action plan. The auditor, however, should provide the above information directly to MARAD.

(15) CLIA recommended a grace period be provided between the time the final policy is published and an application is submitted, as well as between the submission of the application for certification and certification issuance.

Since MARAD certification of training programs is voluntary, the existing means for compliance with the CVSSA training requirement at 46 U.S.C. 3508(c) will remain in effect and sufficient for purposes of CVSSA compliance. Accordingly there is no need to establish a grace period in which to obtain MARAD certification.

Public Information

(1) CLIA asked what information MARAD will publish on its Web site regarding training providers.

MARAD will publish the training provider's name, corporate contact information, and the date of certification. The policy has been amended to ensure clarity on this point.

(2) CLIA expressed concern that the application procedure and program details will be available to the public. Specifically, they assert that applications submitted by training providers should not be open to the public for review and comment.

Individual training provider applications should not be subject to a public notice and comment process. However, it has been the longstanding policy of the Department of Transportation and MARAD to ensure a transparent administrative process when it affects members of the public. Accordingly, in the previous Federal Register Notice of Proposed New Policy, the agency described the program details including the application process and the Agreement that successful applicants must sign before being certified by MARAD. All concerned should understand, however, that the release of any information submitted to the agency by the training provider is subject to the Freedom of Information Act and the Privacy Act. Applicants should identify any proprietary and/or privacy rights information they feel is exempt from release and provide the appropriate supporting justification.

(3) Comments submitted by CLIA assert that the course content, certification details, and training provider issues are not the purview of the general public and questioned why MARAD was soliciting input from cruise line passengers.

DOT and MARAD support, as sound public policy, outreach to interested stakeholders and public participation in rulemaking and in issuing policy documents. Doing so is consistent with the law and builds greater confidence in and broader acceptance of Federal Agency judgments.

Trainer/Applicant Requirements

(1) ICV submitted comments asserting that the time allotted to crime scene preservation and evidence collection training is not adequate to properly equip security personnel. The time allotted under the CVSSA Model Course was determined by USCG, FBI and MARAD to represent an acceptable minimum standard. It is the responsibility of the training provider to demonstrate that the time allotted for each topic and for the entire course is sufficient to meet the requirements of the Model Course.

(2) Both ICV and CLIA requested the criteria or standards MARAD will apply when evaluating instructor qualifications.

In evaluating instructor qualifications MARAD will consider relevant training and education the instructor has completed, and the nature and extent of the instructor's experience in the areas of security, safety, passenger vessel operation and law enforcement.

(3) ICV suggested that MARAD develop a controlled course completion certificate and oversee issuance to trainees who complete the course.

MARAD's certification will be issued to training providers, not to the individuals who complete the training provider's course of instruction. It is the responsibility of the training providers to issue and account for all trainee course completion certificates.

(4) Commenters stated opposing views regarding the anticipated participation of foreign owned training providers and their qualifications to obtain MARAD certification.

The CVSSA specifically allows for certification of foreign training providers. Accordingly, MARAD will accept all complete applications from training organizations both foreign and domestic and it will issue certifications, when appropriate, after review of the application.

(5) CLIA has sought clarification with respect to the need for submitting names, positions, and backgrounds of shore side and shipboard staff members who will evaluate, review, and monitor the CVSSA course.

MARAD is seeking to identify training coordinators and their qualifications where training is being performed by cruise line personnel or an independent training organization. In the case of independent training organizations, the information must be provided if known. In cases where a particular cruise line holds out-of-classroom training, conducted by a company official to augment the Model Course, MARAD believes a point of contact at the cruise lines would benefit the evaluation of the training provider package.

(6) CLIA questioned the practicality of identifying by number the corresponding CVSSA Model Course section in the training syllabus and outline provided by certification applicants.

MARAD recognizes that some courses may include material beyond that contained in the Model Course, for which there would be no corresponding Model Course section. However, to the extent possible, the training curriculum should identify the Model Course numbered objective in the proposed syllabus. This will assist MARAD in performing its review.

(7) CLIA requests clarification on whether the training provider is required to provide the policy governing when additional instructors are required.

MARAD is not requesting the training provider's policy on when additional instructors will be used. MARAD is requiring the training provider to indicate the teacher-student ratio and upon request, when additional instructors will be used.

MARAD CVSSA Training Provider Certification Policy

This policy describes the process through which MARAD will exercise its CVSSA discretionary authority to certify training providers that offer the CVSSA Model Course.

How To Become A Maritime Administration (MARAD) Certified CVSSA Training Provider

Must organizations that provide security and safety training be certified by MARAD?

No. Training provider certification is voluntary.

Is there a Model Course that training providers must follow in order to become a MARAD Certified CVSSA Training Provider?

Yes. Training providers that are voluntarily seeking certification must meet the minimum requirements found in the Model Course CVSSA 11-01; Crime Prevention, Detection, Evidence Preservation and Reporting (July 2011 version). The course was prepared by the USCG, in consultation with MARAD and the FBI. A copy of the Model Course is available for download at MARAD's Web site: www.marad.dot.gov/cvssa.

What is the purpose of the Model Course?

The purpose is to provide training standards and curricula to allow for the certification of passenger vessel security personnel, crewmembers, and law enforcement officials on the appropriate methods for prevention, detection, evidence preservation, and reporting of criminal activities in the maritime environment.

What should be included in my application for MARAD certification?

Applications must contain all of the following information and materials:

1. Training Provider Information:

• Company name;

• Business address;

• State of incorporation;

• Articles of Incorporation;

• Name, address, and contact information of the individual who will be the training provider's point of contact with MARAD; and

• Signed Training Provider Agreement.

2. Instructor Information: Include a list of instructors with a description of their experience, background, and qualifications that demonstrate that they have the subject matter expertise to answer student questions, as well as the instructional capability to impart the required information to students. Where cruise lines are applying for certification of in-house training, cruise lines must provide the names, positions, and backgrounds of shore side and shipboard staff members who will evaluate, review, and monitor any element of the CVSSA course. Independent training organizations must provide this information if known.

3. Course Schedule: Include a course schedule, including the length of each lesson and indicate whether the lesson is presented through a classroom lecture, distance E-learning, practical demonstration, or simulator exercise, and the particulars of how the assessment of students will be administered. For each lesson, where applicable, indicate the number of the corresponding subject area from the CVSSA Model Course.

4. Syllabus and Instructor Manual: Include a course outline, containing a summary of the teaching syllabus and learning objectives by subject area indicating the number of hours to be allocated for each lecture, practical demonstration, or simulation program. A detailed instructor manual must be submitted. Submissions should demonstrate the focus of the course while highlighting how the course conforms to the standards and content contained in the Model Course.

5. E-Learning Requirements: For E-Learning courses, include an estimate of the time required for a student to complete the lesson and any applicable time limits for lesson completion. Also, include information describing the method for distance learners to obtain prompt feedback and assistance from someone meeting the same qualification standards as an instructor in a “live” course.

6. Course Evaluation Form: Include the course evaluation form that will be used to obtain student feedback on the effectiveness of the instruction and instructors.

7. Training Facility Information: For live training courses, include the following information for the training facility:

• Address;

• Description of the training facility rooms including capacity of rooms; and

• Description of the equipment that will be used during the course, including all equipment to be used during hands-on training and/or testing, and any simulators or simulation programs to be used. If a simulator or simulation program is to be used, include technical specifications and brochures provided by the manufacturer.

8. Class Size Information: Provide the maximum class size for classroom lessons and, if appropriate, for practical demonstrations or simulation exercises and assessments, including the number of the students per simulator. State the maximum student to instructor ratio to be allowed.

9. Visual Aids: Include copies of all visual aids and a discussion of how audiovisual and other aids will be used during the training course, and which performance objectives they will impact. (This information may be a part of the curriculum documentation that discusses the make-up of the lesson plans.)

10. Written Teaching and Testing Materials: Include copies of all student handouts, homework assignments, workbooks, and a bibliography of textbooks to be used. Include copies of all tests and examinations. Describe the grading procedure to be used and what will be considered a passing score.

11. Practical Testing Materials: Include a detailed description of any practical or simulator assessments, tests, or exercises that will be conducted. For these exercises, describe the situation presented to the student; what the students must do to successfully complete each assessment, and how each student's performance will be evaluated and recorded. Include a separate checklist to evaluate each practical assessment. Indicate what is considered a passing score. This checklist must indicate the condition under which the practical demonstration will occur, the behavior to be observed, and the criteria for successful completion of the demonstration. Include a discussion of how the instructor(s) will determine final grades by proportioning written and practical examination scores as appropriate.

12. Re-testing: Include a description of the training provider's policy on re-tests of failed assessments.

What course records should be maintained?

Training providers must retain each student's assessment reports, reports of practical tests administered (if any), and record of classroom attendance.

How long must my organization maintain course records?

A training provider must maintain course records at the training facility, or other location approved by MARAD, for at least 5 years after the end of each student's enrollment. Course records must be made available for inspectors within 3 business days of notice.

How should my organization administer course completion certification?

Training Providers must issue consecutively numbered certificates to students who successfully complete the approved course. Blank course completion certificates must be kept secure at all times. The paper stock of course completion certificates must contain micro printing, watermarks and/or other effective measures to help prevent production of fraudulent certificates. Training providers should consult International Maritime Organization MSC/Circ. 1089 “Guidance on Recommended Anti-Fraud Measures and Forgery Prevention Features for Seafarers' Certificates” available via the IMO Web site at www.imo.org.

Course completion certificates should be in a standardized format and contain the following:

• the name of the course as stated in the course certification letter;

• the name of the school or training provider;

• the date the training began and was completed;

• the signatures of the course instructor and director or department head; and

• the student's full name.

May my organization deviate from or modify the specifications of the Model Course and still obtain MARAD approval and certification?

Deviations from or modifications to the Model Course format are permissible, however all course material required by the Model Course must be included in proposed course curricula to the extent stated in the Model Course. To facilitate MARAD review, training providers are encouraged to present the information in the format indicated in the Model Course outline. Any proposed deviations from or modifications to the specifications of the Model Course must be highlighted in the application for certification, with an explanation justifying the change, discussing its benefits, and describing how the material will be covered.

What will MARAD do with the materials submitted?

MARAD will review all information and materials submitted and determine whether the course submitted is consistent with the Model Course. If consistent, MARAD will issue a training provider certification after receipt of the executed training provider Agreement which acknowledges MARAD and its designees may audit the course.

Where do I submit my application for certification?

A training provider seeking MARAD certification as a CVSSA Training Provider may electronically submit the required information to www.marad.dot.gov/cvssa.

or

by mail addressed as follows:

Department of Transportation, Maritime Administration, Attention: CVSSA Training Certification Program, 1200 New Jersey Avenue SE., Washington, DC 20590.

How will I know whether I was approved for certification?

MARAD will issue a certification to the training organization. MARAD will publish the names of certified training providers on the MARAD Web site.

After my course is approved and my organization is certified, are there any on-going responsibilities necessary to maintaining my certification?

Yes. Certified training organizations must notify MARAD in writing within 30 calendar days of any changes in information last furnished with respect to the course, teaching staff, maximum teacher/student ratio, maximum class size, training facility, or training equipment. Certified training organizations must also maintain, for audit purposes, a copy of the identification of all students who successfully complete the course.

How will MARAD ensure that certified training organizations provide training that is effective and consistent with the Model Course?

MARAD will ensure compliance through scheduled audits performed by qualified independent auditors, in which MARAD personnel may participate. MARAD may also conduct audits by agency personnel. Three audits will take place during the 5-year certification period. The first audit must be scheduled within the first 6 months of MARAD certification. A mid-period audit will be conducted between the second and third anniversary of certification. A final audit must take place no earlier than 6 months before the expiration of the MARAD certification. It is the responsibility of the training provider to schedule and ensure completion of these three audits. It is also the responsibility of the training provider to ensure that MARAD receives audit results, descriptions of non-conformities, and corrective action plans. Training providers must inform MARAD in advance of the dates of upcoming audits.

Does my certification expire?

Certifications are effective for a period of five years, or until the certification is suspended or revoked.

How can I renew my organization's certification?

A request for the renewal of a course approval and certification should be submitted at least 90 days before the current approval expires. The applicant is responsible for the content of its submission. Therefore, the renewing organization should review MARAD application instructions and guidance in order to ensure that the new application is consistent with current MARAD requirements. Assuming that no updates have been made to the CVSSA training provider application process, to facilitate the renewal process, all changes should be highlighted. If there have been no changes since the last approval, a statement to the effect that the curriculum, instructors, and facilities are the same as was previously submitted and approved should accompany the submittal.

Reconsideration Process

Training providers may request reconsideration of a disapproval of certification, or the suspension or revocation of certification. Requests must be in writing, state the basis for the reconsideration request, and provide any additional relevant information. Requests must be directed to the Maritime Administration Administrator.

MARITIME ADMINISTRATION CERTIFIED CVSSA TRAINING PROVIDER AGREEMENT

I, __________ (NAME) AM AUTHORIZED BY AND IN BEHALF OF __________ (THE CORPORATION) A CORPORATION ORGANIZED AND EXISTING UNDER THE LAWS OF THE STATE OF ________ (HEREINAFTER CALLED THE “CORPORATION”), WITH OFFICES AT ________, (BUSINESS ADDRESS) IN EVIDENCE OF WHICH INCORPORATION A CERTIFIED COPY OF THE ARTICLES OF INCORPORATION (OR ASSOCIATION) IS FILED HEREWITH (OR HAS BEEN FILED).

I AM AUTHORIZED BY AND IN BEHALF OF THE CORPORATION TO EXECUTE AND DELIVER THIS AGREEMENT AS A CONDITION OF MARITIME ADMINISTRATION (MARAD) APPROVAL AND CERTIFICATION:

(I) The Corporation agrees that:

(a) The content of approved training courses will conform to the Model Course CVSSA 11-01 Crime Prevention, Detection, Evidence Preservation and Reporting, or other model courses that may be approved by MARAD.

(b) A complete administrative record to include the student's assessment reports, a report of practical tests administered, and a record of classroom attendance, will be maintained at the training facility or other location approved by MARAD and will be made available for MARAD review within 3 business days of notice for at least 5 years from the student's date of enrollment.

(c) Training courses will be conducted as approved and certified by MARAD.

(d) All administrative records will be provided electronically to MARAD within 3 business days of a request for review by MARAD officials.

(e) It will accommodate MARAD attendance in CVSSA training classes and training facilities whether unannounced or otherwise.

(f) It will authorize course instructors to answer MARAD inquiries and provide course material as requested.

(g) The identity of students will undergo verification and be evidenced through one of the forms of photo identification listed under section (h) below. For E-Learning, equivalent arrangements for student identity will be established, controlled, provided, and administered at the training provider's centralized location.

(h) Acceptable forms of identification are:

(1) Merchant Mariner Document;

(2) National Passport;

(3) Armed Forces Identification Card;

(4) Photo identification cards issued by U.S. Federal, state, or local government agencies; or

(5) Driver's license with photo of the driver.

(i) It will maintain, for audit purposes, a copy of the identification of all students who successfully complete the course.

(j) E-learning student projects and work will be reviewed by an assessor meeting the same qualification standards as an instructor in a live course.

(k) Instructors or training provider personnel will not assist or coach students in any way during the evaluation process.

(l) It will issue consecutively numbered certificates to students who successfully complete the approved course.

(m) Blank course completion certificates will be kept secure at all times.

(1) The paper stock of course completion certificates will contain micro printing, watermarks and/or other effective measures to help prevent production of fraudulent certificates.

(2) Course completion certificates will be in a standardized format and contain the following:

(i) The name of the course as stated in the course certification letter;

(ii) the name of the school or training provider;

(iii) the date the training began and was completed;

(iv) the signatures of the course instructor and director or department head; and

(v) the student's full name.

(II) The Corporation agrees to provide:

(a) The class schedule to MARAD one month before any CVSSA training class enrollment.

(b) Copies of training textbooks upon request from MARAD.

(c) Notice to MARAD of any instructor changes no fewer than 10 days prior to course commencement.

(d) Notice to MARAD in writing within 30 calendar days of any changes in information previously provided and relied upon for approval and certification, including but not limited to Corporation status, the course curriculum, teaching staff, maximum teacher/student ratio, class size, training facility, or training equipment.

(e) Photographs, diagrams, or plans of the training site upon request.

(f) A description of the equipment that will be used during the course. This includes all equipment to be used during hands-on training and/or testing, and any simulators or simulation programs to be used. If a simulator or simulation program is to be used, include technical specifications and brochures provided by the manufacturer.

(g) A request for renewal of course approval and certification at least 90 days before the approval and certification expiration date.

(III) The Corporation agrees to:

(a) Schedule audits of its CVSSA Training Program by qualified independent auditors at the Corporation's expense, according to the schedule stated in the MARAD training provider certification policy;

(b) Require the auditor to provide a copy of all audit results and any corrective action plan directly to MARAD;

(c) Implement expeditiously any corrective action plan provided by the auditor or by MARAD;

(d) Immediately report to MARAD any nonconformity with a certified training program, whether detected in an audit or otherwise;

(e) Allow MARAD personnel to participate in scheduled audits, and allow MARAD to conduct unscheduled audits of the Training Program at MARAD expense.

(IV) The Corporation acknowledges, understands, and further agrees that:

(a) MARAD certification is effective for a period of five years from the date of certification, or until the certification is suspended or revoked.

(b) MARAD may suspend or revoke its certification at any time, without notice and with immediate effect.

(c) Upon written notice of suspension or revocation of certification, the Corporation will immediately cease any display, marketing or other use of MARAD certification.

(d) The corporation may request reconsideration of a disapproval of certification, or the suspension or revocation of certification, through a written request to the Maritime Administrator discussing in detail the reasons why relief should be granted.

(e) MARAD approval of an application is at the discretion of the agency. Nothing in this agreement or in the Agency's policy requires MARAD to issue a certification.

Signature of Authorized Official, Title, Date

PENALTY FOR FALSE STATEMENT: A fine or imprisonment, or both, are provided for violation of the proscriptions contained in 18 U.S.C. 1001 (see also 18 U.S.C. 286 and 287).

Policy Analysis and Notices

Consistent with the Administrative Procedures Act and Department of Transportation rulemaking policy, MARAD is publishing this policy in the Federal Register to indicate how it plans to exercise the discretionary authority provided by Section 3508 of the CVSSA. Nothing in this notice or in the policy itself requires MARAD to exercise its discretionary authority under the CVSSA. This policy establishes a voluntary program in which successful applicants may obtain MARAD cruise vessel security and safety training provider certification.

Paperwork Reduction Act: The information collection requirements in this final policy are being submitted for approval to the Office of Management and Budget (OMB) under the Paperwork Reduction Act of 1995, 44 U.S.C. 3501, et seq. The sections that contain the information collection requirements are detailed in the above section entitled “HOW TO BECOME A MARITIME ADMINISTRATION (MARAD) CERTIFIED CVSSA TRAINING PROVIDER” and the estimated time to fulfill each requirement and to prepare a complete application are estimated in the section entitled “Collection Summary” below.

The OMB is required to make a decision concerning the collection of information requirements contained in this final policy within 60 days after publication of this document in the Federal Register. Therefore, a comment to OMB is best assured of having its full effect if OMB receives it within 30 days of publication. [To direct your comments, see section entitled ADDRESSES].

MARAD intends to obtain a current OMB control number for the information collection requirements resulting from this rulemaking action prior to the effective date of this final policy. The OMB control number, when assigned, will be announced by separate notice in the Federal Register.

Collection Summary

Persons or organizations seeking training provider certification must submit certain information described in the above section entitled “How to become a Maritime Administration Certified CVSSA Training Provider” and must sign a training provider agreement. No particular form is required for the application procedure. However, all information described in the application procedure must be submitted and is necessary for proper review of the applicant's qualifications. The training provider agreement will be required to follow the published format and be signed by the successful applicant before MARAD will issue its certification. To maintain certification, training providers will be required to undergo audits and to provide audit reports to MARAD.

Need for and Use of the Information: The information collected will be used to analyze the applicant's methods and process of instruction in providing information that is comprehensive in scope and consistent with the USCG Model Course. Information arising under training provider audits will be used to ensure that certified training providers remain qualified throughout the certification period. The training provider agreement is necessary to establish an understanding between the agency and the training provider that certain terms must be met in order to obtain and maintain MARAD training provider certification. Without this information, MARAD would not be able to offer the benefit of its training provider certification to program applicants. MARAD training provider certification will assist the USCG in ensuring cruise vessel CVSSA compliance.

Description of Respondents: Individuals, partnerships, or corporations seeking training provider certification.

Annual Responses: Once the policy is effective, the agency anticipates as many as 35 submissions each year. Certification is anticipated to span a period of 5 years before expiration and renewal. However, the agency does anticipate the collection of information annually from the same estimated number of training providers seeking to maintain their certification by complying with agency audits.

Annual Burden: 40 hours per program participant or 1400 hours total.

Authority: The Cruise Vessel Security and Safety Act of 2010, 46 U.S.C. 3508, The Paperwork Reduction Act of 1995; 44 U.S.C. Chapter 35, as amended; 49 CFR 1.49.

Dated: March 26, 2014.
By Order of the Maritime Administrator.
Julie P. Agarwal,
Secretary, Maritime Administration.

[FR Doc. 2014-14875 Filed 6-24-14; 8:45 am]

BILLING CODE 4910-81-P